DEPARTMENT OF HEALTH AND HUMAN SERVICES

Office of Inspector General

Notice of Program Exclusions

AGENCY: Office of Inspector General, HHS.

ACTION: Notice of program exclusions.

Important Announcement: The Office of Inspector General (OIG) will discontinue publication of monthly exclusion actions in the Federal Register in two months. Downloadable files of exclusion actions taken each month are available on the OIG's Web site. In addition, the Web site has a downloadable data file and an online searchable database containing all exclusion actions currently in effect. This data is called the List of Excluded Individuals/Entities (LEIE) and is located at http://oig.hhs.gov. Click on EXCLUSIONS DATABASE to access the LEIE and other important information about the OIG's exclusion program.

Program Exclusions: September 2006. During the month of September 2006, the HHS Office of Inspector General imposed exclusions in the cases set forth below. When an exclusion is imposed, no program payment is made to anyone for any items or services (other than an emergency item or service not provided in a hospital emergency room) furnished, ordered or prescribed by an excluded party under the Medicare, Medicaid, and all Federal Health Care programs. In addition, no program payment is made to any business or facility, e.g., a hospital, that submits bills for payment for items or services provided by an excluded party. Program beneficiaries remain free to decide for themselves whether they will continue to use the services of an excluded party even though no program payments will be made for items and services provided by that excluded party. The exclusions have national effect and also apply to all Executive Branch procurement and non-procurement programs and activities.

Subject name | Address | Effective date
PROGRAM-RELATED CONVICTION
ABAD, NILDA | ALPINE, CA | 10/19/2006
ALLISON, KEITH | LOS ANGELES, CA | 10/19/2006
ANDERSON, THEODORE | KINGSTON, WA | 10/19/2006
BOUCHARD, JOHN | PHILLIPSBURG, KS | 10/19/2006
BOUGHTON, LLOYD | LOS ANGELES, CA | 10/19/2006
BRAZIL, MICHAEL | ARLINGTON, VA | 10/19/2006
CACAL, ROQUE | LOS ANGELES, CA | 10/19/2006
CACAL, ROSA | LOS ANGELES, CA | 10/19/2006
CARDILLO, JOHN | BERKELEY HEIGHTS, NJ | 10/19/2006
DELATOUR, GREGORY | MIAMI, FL | 10/19/2006
DELGADO, JOSUE | BALDWIN PARK, CA | 10/19/2006
DODDS, KYLE | INDEPENDENCE, OR | 10/19/2006
EASON, KIM | FRESNO, CA | 10/19/2006
EDWARDS, PHYLLIS | HAMILTON, OH | 10/19/2006
EVANS, AMY | PATASKALA, OH | 10/19/2006
FINLEY, SANDRA | OKLAHOMA CITY, OK | 10/19/2006
FLORES, VERGIL | MESQUITE, TX | 10/19/2006
FRANK, PAUL | FORT DIX, NJ | 10/19/2006
GALLEGOS, JODY | THORNTON, CO | 10/19/2006
GORDON, RICHARD | SURPRISE, AZ | 10/19/2006
GOTTSCHALL, ZAY | BUTTE, MT | 10/19/2006
HABEEB, GREGORY | CLARK SUMMIT, PA | 10/19/2006
HARRIS, KATRINA | NILES, OH | 10/19/2006
HARRIS, TAMMY | AUSTIN, TX | 10/19/2006
HARTSFIELD, ARCHIE | EL PASO, TX | 10/19/2006
HERIC, THOMAS | HAWTHORNE, CA | 10/19/2006
HERNANDEZ, JOSE | MIAMI, FL | 10/19/2006
HOLSAN, JASON | GRAND JUNCTION, CO | 10/19/2006
HOVATTER, KATHY | PARMA, OH | 10/19/2006
ISHAK, MAHER | HARRIMAN, NY | 10/19/2006
JOHNSON, SHELIA | SARDINIA, OH | 10/19/2006
JONES, WANDA | YOUNGSTOWN, OH | 10/19/2006
LAZARO, JUAN | WESTBROOK, ME | 10/19/2006
LUETTGEN, TAMMIE | ALLENTOWN, PA | 10/19/2006
MALAHIMOV, BORIS | BRADFORD, PA | 10/19/2006
MALCOLM-FORBES, SONIA | COLUMBUS, OH | 10/19/2006
MAYHUGH, JEFFREY | THORNVILLE, OH | 10/19/2006
MORTON, GEORGE | PHENIX, VA | 10/19/2006
PARKER, ROGER | HAMPTON, VA | 10/19/2006
PETERSON, RENE | DES MOINES, IA | 10/19/2006
REISBORD, DAVID | LOS ANGELES, CA | 10/19/2006
RUMMELT, HERMAN | DULUTH, MN | 10/19/2006
SERRANO, SUSAN | DUBLIN, CA | 10/19/2006
SHUMAKER, MARY | SARDINIA, OH | 10/19/2006
SISNEY, DEBRA | BULL SHOALS, AR | 10/19/2006
SOLIS, MARY | WEST COVINA, CA | 10/19/2006
SPEARS, RAMESHIA | GRANDVIEW, MO | 10/19/2006
SPEIGHT, DIANNA | LAS VEGAS, NV | 10/19/2006
STATLER, JOHN | DAYTON, OH | 10/19/2006
STIMPSON, RIETA | HELENA, MT | 10/19/2006
WALLED, RAFAEL | MIAMI, FL | 7/5/2006
WALLERICK, MELANIE | YOUNGSTOWN, OH | 10/19/2006
WILLIAMS, DRANETTA | GATESVILLE, TX | 10/19/2006
WILLIAMS, HENRY | HUNTSVILLE, TX | 10/19/2006
WOODBURY PHARMACY, INC | HARRIMAN, NY | 10/19/2006
FELONY CONVICTION FOR HEALTH CARE FRAUD
BAILEY, LLEWELLYN | ROSEDALE, NY | 10/19/2006
BALL, HEIDI | SPRINGFIELD, OR | 10/19/2006
BATTERTON, CAROL | CHEYENNE, OK | 10/19/2006
BENTLEY, WILLIAM | MONROE, WA | 10/19/2006
BLEVINS, CHARLES | MONTGOMERY, AL | 10/19/2006
BOUGHTON, DARLA | COEUR D'ALENE, ID | 10/19/2006
CARTER, ANGEL | BATESVILLE, AR | 10/19/2006
COULSON, ANDREA | ORANGE, CA | 10/19/2006
CRICHTON, SONJA | LITCHFIELD PARK, AZ | 10/19/2006
DECKER, CAROLINE | BOULDER, CO | 10/19/2006
FARR, CHARLENE | SWANTON, VT | 10/19/2006
FULKERSON, JANET | TEMPLE, TX | 10/19/2006
GONZALEZ, JOSEPH | MIAMI BEACH, FL | 10/19/2006
HARRIS, APRIL | PHOENIX, AZ | 10/19/2006
HARRIS, JOAN | FONTANA, CA | 10/19/2006
HENNEKES, ZACHARY | CINCINNATI, OH | 10/19/2006
KOWALSKI, KAREN | DENVER, CO | 10/19/2006
LANDIN, ALICIA | WESTMINSTER, CO | 10/19/2006
LIEN, JONATHAN | SAN JOSE, CA | 10/19/2006
MELTON, LINDA | CENTRAL POINT, OR | 10/19/2006
MOSS, MARGO | NORWALK, IA | 10/19/2006
NGUYEN, DENNIS | ELK GROVE, CA | 10/19/2006
ORZO, BILLIE | ALLIANCE, OH | 10/19/2006
POLZINE, ANTHONY | SAN ANTONIO, TX | 10/19/2006
SCHEMPP, JOANNE | KENT, OH | 10/19/2006
TAYLOR, MISTY | STRATFORD, OK | 10/19/2006
WILLIS, JACQUELYN | FAIRFIELD, OH | 10/19/2006
WOODRAL, JANNETTE | HEAVENER, OK | 10/19/2006
ZENTZ, NANCY | CLARKSVILLE, IN | 10/19/2006
ZOLOTAREVA, ELLA | BROOKLYN, NY | 10/19/2006
FELONY CONTROLLED SUBSTANCE CONVICTION
BAIKAUSKAS, LAURIE | PEARLAND, TX | 10/19/2006
BARNWELL, TERRI | BRIDGEPORT, TX | 10/19/2006
BEAVER, CHERYL | ELKHART, IN | 10/19/2006
CAMPBELL, TINO | BRIGHTON, CO | 10/19/2006
CONLEY, JAMES | FLATWOODS, KY | 10/19/2006
COPLEY, TIFFANY | LUBBOCK, TX | 10/19/2006
DONCASTER-LAWSON, PATRICIA | WILLIAMSBURG, KY | 10/19/2006
FEE, CATHERINE | EGG HARBOR CITY, NJ | 10/19/2006
GINGLE, MICHELLE | WESLEY CHAPEL, FL | 10/19/2006
HUTTON, JOANNA | HOCKESSIN, DE | 10/19/2006
KELLEY-WALLER, SUSAN | OVERTON, TX | 10/19/2006
KNOX, ROBERT | PRINCETON, WV | 10/19/2006
NAGY, HEATHER | PORT RICHEY, FL | 10/19/2006
PORTINGA, DONNA | WYLIE, TX | 10/19/2006
RUPARD, LORA | SHEPHERDSVILLE, KY | 10/19/2006
SANDLIN, JENNIFER | ANCHORAGE, AK | 10/19/2006
SZURGOT, LONDA | JOSHUA, TX | 10/19/2006
WAGMAN, PHILIP | CAMP HILL, PA | 10/19/2006
WHITE, TRACY | IOWA CITY, IA | 10/19/2006
YELTON, DEBRA | NEVADA CITY, CA | 10/19/2006
PATIENT ABUSE/NEGLECT CONVICTION
AKTHAR, WAHEED | HOUSTON, TX | 10/19/2006
ALEXANDER, JASMINE | LITTLETON, CO | 10/19/2006
ALLDREDGE, JOYCE | NEWBERG, OR | 10/19/2006
BELTRAN, RICARDO | WHITTIER, CA | 10/19/2006
BOYCE, EMILY | AMITYVILLE, NY | 10/19/2006
CLARK, WILLIAM | BALLWIN, MO | 10/19/2006
CLOUGH, KRISTEN | PORTSMOUTH, NH | 10/19/2006
DUVALL, DONNA | LOCO, OK | 10/19/2006
ELMORE, ASHLEY | BETHANY, OK | 10/19/2006
EVANS, JOHN | HARDWICK, GA | 10/19/2006
GREENBERG, WILLIAM | WEST BLOOMFIELD, MI | 10/19/2006
GRIMES, BETTY | GLENDORA, CA | 10/19/2006
HAECK, MARGARET | LANSING, MI | 10/19/2006
HAMED, JILL | COPPERAS COVE, TX | 10/19/2006
HARTKOPF, PAMELA | ROTHSCHILD, WI | 10/19/2006
HENRY, JESSE | ALBUQUERQUE, NM | 10/19/2006
KATHPAL, GURBACHAN | CANONSBURG, PA | 10/19/2006
KNEELAND, ASHLEY | JAY, OK | 10/19/2006
KONADU, OFORI | COLUMBUS, OH | 10/19/2006
LARKIN, PATRICIA | GUTHRIE, OK | 10/19/2006
LOESER, PETER | FRANKLIN, NH | 10/19/2006
MAGANA, IGNACIO | JUPITER, FL | 10/19/2006
MASSEY, TRACI | CANTON, OH | 10/19/2006
MESSER, KIMBERLY | CORINTH, MS | 10/19/2006
PARKER, COURTNEY | CHICKASHA, OK | 10/19/2006
SANDERS, MICHAEL | NEWTON, NJ | 10/19/2006
SHOLES, MARK | SAINT PETERSBURG, FL | 10/19/2006
SINGLETON, EMILY | MIAMI, FL | 10/19/2006
SNIDER, CHARLES | PORTLAND, OR | 10/19/2006
SPEARS, VIRGINIA | ROSEVILLE, CA | 10/19/2006
STANG, ROBERT | KINGSLEY, MI | 10/19/2006
THOMPSON, COLLEEN | ROCKVILLE, MD | 10/19/2006
TROTTIER, PATRICIA | LANCASTER, NH | 10/19/2006
VILLAREAL, JULIUS | CHULA VISTA, CA | 10/19/2006
WILLIAMSEN, JEFFREY | MT PLEASANT, IA | 10/19/2006
WRIGHT, JOSEPH | AUGUSTA, WV | 10/19/2006
WUELLEH, JAMES | COLUMBUS, OH | 10/19/2006
YATES, GEORGE | STERLING, CO | 10/19/2006
CONVICTION FOR HEALTH CARE FRAUD
ASHLEY, PEGGY | MAYFLOWER, AR | 10/19/2006
BASSETT, SARA | LEON, IA | 10/19/2006
GURUNIAN, TIFFANY | BOSSIER CITY, LA | 10/19/2006
PINKHAM, JENNIFER | CANAAN, ME | 10/19/2006
LICENSE REVOCATION/SUSPENSION/SURRENDER
ABRAMS, BRUCE | LEXINGTON, KY | 10/19/2006
ALDRICH, JOYCE | PARKER, CO | 10/19/2006
ANDERSON, PEGGY | STANWOOD, WA | 10/19/2006
ANDERSON-STRATTON, JAIMEE | OGDEN, UT | 10/19/2006
BABINEAU, MARSHA | SURPRISE, AZ | 10/19/2006
BADER, RALPH | TAFT, CA | 10/19/2006
BALLENTINE, SALLY | ARLINGTON, TX | 10/19/2006
BATES, WILLIAM | MONTICELLO, FL | 10/19/2006
BEAUDOIN, PATRICIA | HOUSTON, TX | 10/19/2006
BELIN, MARY | CORONA, CA | 10/19/2006
BENASFRE, SANDERSON | WILMINGTON, CA | 10/19/2006
BEVINS, ELIZABETH | WINCHESTER, KY | 10/19/2006
BIRD, CHARLES | ALTAMONTE SPRINGS, FL | 10/19/2006
BOTEO, AURA | S. SAN FRANCISCO, CA | 10/19/2006
BOTKIN, JENNIFER | FRENCHTOWN, MT | 10/19/2006
BOUCHARD, ROXANNE | ENFIELD, CT | 10/19/2006
BOUTACOFF, MARIA | FAIRFAX, CA | 10/19/2006
BOYNTON, HOLLY | EVANSTON, WY | 10/19/2006
BRADBURN, JAMIE | GOLDEN, CO | 10/19/2006
BRECKEN, SIGRID | OLD ORCHARD BEACH, ME | 10/19/2006
BRISTOL, KENNETH | FLAGSTAFF, AZ | 10/19/2006
BROWN, KELLY | FT OGLETHORPE, GA | 10/19/2006
BROWNE, CLINTON | GAINESVILLE, FL | 10/19/2006
BROWNING, MICHELLE | WESTMINSTER, CO | 10/19/2006
BRUNELLE, ELIZABETH | TUCSON, AZ | 10/19/2006
BRUNNER, MARY | DENVER, CO | 10/19/2006
BUCKLAND, DEANNA | ROCHESTER, NY | 10/19/2006
BUSCHER, RICHARD | YAKIMA, WA | 10/19/2006
BUSEY, REBECCA | SHREVEPORT, LA | 10/19/2006
CACHUELA, DANILO | CHULA VISTA, CA | 10/19/2006
CARNEY, JOHN | BLUEFIELD, VA | 10/19/2006
CARPENTER, IZETTA | LOS GATOS, CA | 10/19/2006
CHAVEZ, YVETTE | LOCKEFORD, CA | 10/19/2006
CHIPMAN, BRENDA | AMERICAN FORK, UT | 10/19/2006
CHRAPA, EDEANE | E AURORA, NY | 10/19/2006
COHEN, STACIE | FRAMINGHAM, MA | 10/19/2006
COLEMAN, LYNDEE | PHILO, CA | 10/19/2006
COMBS, SANDRA | WHITE RIVER JUNCTION, VT | 10/19/2006
COMPTON, KATHRYN | PIKEVILLE, KY | 10/19/2006
CONLEY, TONY | HOLDENVILLE, OK | 10/19/2006
COON, JENNIFER | BINGHAMTON, NY | 10/19/2006
CROWLEY, CAITLIN | MANCHESTER, NH | 10/19/2006
CUDNEY, KATHI | EUREKA, CA | 10/19/2006
CYNEWSKI, KATELYN | EXETER, NH | 10/19/2006
CYPRESS, ROVET | HAMPTON, VA | 10/19/2006
DALLEY, MELISSA | WEST JORDAN, UT | 10/19/2006
DANIELS, STEPHANIE | TEMECULA, CA | 10/19/2006
DEVITO, DANIELLE | MECHANICVILLE, NY | 10/19/2006
DIAZ, CHRISTOPHER | GRAND JUNCTION, CO | 10/19/2006
DRAPER, SPENCER | CANYON LAKE, TX | 10/19/2006
DUFF, JONNA | OXNARD, CA | 10/19/2006
DUFFEY, DANNELL | VISALIA, CA | 10/19/2006
DUFFY, KATHY | GREENVILLE, TX | 10/19/2006
EARL, THEODORE | PITTSBURGH, PA | 10/19/2006
EASON, WALTER | JACKSONVILLE, AL | 10/19/2006
EDGE, NIKKI | YERINGTON, NV | 10/19/2006
EISENBERG, LAURA | PORT HENRY, NY | 10/19/2006
FALL, DONNA | PITTSBURGH, PA | 10/19/2006
FARMARTINO, ROCKY | HERMITAGE, PA | 10/19/2006
FIELDS, BRYAN | MISSOURI CITY, TX | 10/19/2006
FINCH, GHIA | INDIANAPOLIS, IN | 10/19/2006
FRANCOIS, IOLA | GADSDEN, AL | 10/19/2006
FRISBY, JODI | PAYSON, UT | 10/19/2006
GAINES, GINGER | TAMPA, FL | 10/19/2006
GARDNER, TODD | KANAB, UT | 10/19/2006
GERAGHTY, MARY | RUNNING SPRINGS, CA | 10/19/2006
GILLILAND, JAMES | VANCOUVER, WA | 10/19/2006
GISOLO, LINDA | MIDLAND, TX | 10/19/2006
GREEN, JUDITH | ESSEX JUNCTION, VT | 10/19/2006
GREER, JULIANA | MESA, AZ | 10/19/2006
HAHN, REBECCA | PHOENIX, AZ | 10/19/2006
HALL, LINDA | ANDERSON, IN | 10/19/2006
HALSTED, DAVID | TRAVERSE CITY, MI | 10/19/2006
HANGE, PAULEE | LANSDALE, PA | 10/19/2006
HANNA, DARWIN | BOLINGBROOK, IL | 10/19/2006
HANSEN, TAMMY | HUTTO, TX | 10/19/2006
HARRIS, JENNIFER | TEMPE, AZ | 10/19/2006
HARRIS, RICHARD | HENDERSONVILLE, NV | 10/19/2006
HARRIS, VISHUN | REDLANDS, CA | 10/19/2006
HERNANDEZ, SYLVIA | GLENDALE, AZ | 10/19/2006
HODGSON, MELISSA | OKLAHOMA CITY, OK | 10/19/2006
HOLLAND, ANGELICA | TUCSON, AZ | 10/19/2006
HOLZHAUSEN, KAREN | NORTH EAST, PA | 10/19/2006
HOPES, JAMES | ALEXANDER, AR | 10/19/2006
HOSKINS, VICKIE | BAXTER, KY | 10/19/2006
HUARD, KATHY | BROOKFIELD, MA | 10/19/2006
HUEBENER, CHRISTIANE | DES MOINES, IA | 10/19/2006
HUGHSON, KATHLEEN | RICHMOND, VA | 10/19/2006
HUNT, WAYNE | BROOKLYN, NY | 10/19/2006
HUTSON, TRACY | ABILENE, TX | 10/19/2006
JAMISON, LISA | ARANSAS PASS, TX | 10/19/2006
JEFFERSON, SHIRLEY | WAXAHACHIE, TX | 10/19/2006
JOHNSON, CHANIKA | LONGVIEW, TX | 10/19/2006
JOHNSON, ROBERT | DELTONA, FL | 10/19/2006
JOHNSTON, KELLIE | BLUE BELL, PA | 10/19/2006
JONES, LISA | MONTGOMERY, IN | 10/19/2006
JUAREZ, SANDRA | BUTTE, MT | 10/19/2006
KEEN, KIMBERLY | WHITNEY, TX | 10/19/2006
KING, PATRICIA | HOUSTON, TX | 10/19/2006
KLEIN, SHARON | JACKSONVILLE, FL | 10/19/2006
KOEN, SHAUN | HANSFORD, CA | 10/19/2006
KOLINSKY, BARBARA | BERLIN, NH | 10/19/2006
KRAEMER, LINDA | BLANDON, PA | 10/19/2006
KRIKSCIUN, DONNA | OAKDALE, CT | 10/19/2006
LA FAMILIA PHARMACY III, INC | MIAMI, FL | 10/19/2006
LA FAMILIA PHARMACY IV, INC | DEERFIELD BEACH, FL | 10/19/2006
LADD, ROBERT | WESTMORELAND, TN | 10/19/2006
LAFAYETTE, PATRICIA | BRISTOL, VT | 10/19/2006
LANCASTER, DAVID | SAINT GEORGE, UT | 10/19/2006
LANCASTER, MELISSA | ARCHBALD, PA | 10/19/2006
LANDERS, MARIBETH | KELLER, TX | 10/19/2006
LAPOINTE, DAVID | PROVIDENCE, RI | 10/19/2006
LAQUERRE, CHERI | WEST BARNSTABLE, MA | 10/19/2006
LATTERMAN, MICHAEL | MIAMI BEACH, FL | 10/19/2006
LAUBER, JANE | TUCSON, AZ | 10/19/2006
LEFAIVRE-KNUTSON, JULIE | OCALA, FL | 10/19/2006
LENTZ, BRIAN | DENVER, CO | 10/19/2006
LEWIS, FRANK | DAVIS, CA | 10/19/2006
LIMIDO, GLEN | MAYWOOD, NJ | 10/19/2006
LINEBARGER, NANCY | GUILD, NH | 10/19/2006
LO CASCIO, THOMAS | FLORAL PARK, NY | 10/19/2006
LOGAN, JOEL | NORWELL, MA | 10/19/2006
LOVATO, ANDREA | MONROE, NH | 10/19/2006
LOWMAN, BRIAN | OOLTEWAH, TN | 10/19/2006
LUCAS, KATINA | STATEN ISLAND, NY | 10/19/2006
LUCAS, KRISTI | ROANOKE, VA | 10/19/2006
LUCAS, LESLIE | BARRE, VT | 10/19/2006
MAGDELENA, EMILY | MARICOPA, AZ | 10/19/2006
MAGNON, CONSTANCE | ELMENDORF, TX | 10/19/2006
MANIG, MARK | COLORADO SPRINGS, CO | 10/19/2006
MARCH, LOIS | CORDELE, GA | 10/19/2006
MARRAZZO-TALLIA, CHRISTAL | FAIRHAVEN, NJ | 10/19/2006
MCGETTIGAN, MARY | PHILADELPHIA, PA | 10/19/2006
METIAM, FRANCROSENDO | SPARKS, NV | 10/19/2006
MILLER, CYNTHIA | NASHVILLE, TN | 10/19/2006
MILLER, TYLER | MANTI, UT | 10/19/2006
MITCHELL, JOSHUA | AUGUSTA, ME | 10/19/2006
MITCHELL, KENNETH | SANFORD, ME | 10/19/2006
MORALES, SUSAN | FLORESVILLE, TX | 10/19/2006
MORRIS, JANET | JELLICO, TN | 10/19/2006
MORRIS, THERESA | ROCHESTER, NY | 10/19/2006
MORRISON, HOLLY | WESTERVILLE, OH | 10/19/2006
NAZIR, KHALIL | ALBANY, NY | 10/19/2006
NELSON, J | SALT LAKE CITY, UT | 10/19/2006
NGUYEN, KHOA | SEATTLE, WA | 10/19/2006
NIELSEN, JAIMIE | JOHNSON, VT | 10/19/2006
NORRIS, DEBRA | DALLAS, TX | 10/19/2006
NORRIS, JO | KRUM, TX | 10/19/2006
NORWOOD, CAROLE | BENTON, TN | 10/19/2006
NURIAS LA FAMILIA PHARMACY | DEERFIELD BEACH, FL | 10/19/2006
OLIVER, BEVERLY | DONALDSONVILLE, LA | 10/19/2006
OLIVER, CRISTY | ALVIN, TX | 10/19/2006
OLMSTEAD, STEPHEN | SEATTLE, WA | 10/19/2006
ORNALES, JOEY | YOAKUM, TX | 10/19/2006
PARKER, ANDREA | NEWARK, NY | 10/19/2006
PARLANTE, DANIELLE | WILLIAMSPORT, PA | 10/19/2006
PASCO, MARITONE | HOUSTON, TX | 10/19/2006
PATURU, SUMATHI | BIRMINGHAM, AL | 10/19/2006
PETRIE, JENNIFER | CLEARLAKE, CA | 10/19/2006
PINA, DARLEEN | TEATICKET, MA | 10/19/2006
POOL-PARKER, MIKA | NORMAN, OK | 10/19/2006
PRIEM, LOREN | DENVER, CO | 10/19/2006
READ, BONNIE | SPRING HILL, FL | 10/19/2006
REDD, SHERRI | SENATOBIA, MS | 10/19/2006
REESE, CHRISTOPHER | CLINTON, NY | 10/19/2006
REHM, TODD | LAKE GEORGE, NY | 10/19/2006
ROCKE, DARCELLE | DENVER, CO | 10/19/2006
ROUSSEAU, JANET | MIDDLETON, NH | 10/19/2006
ROY, SUSAN | SHREWSBURY, MA | 10/19/2006
RUDOLPH, MELISSA | CANAL WINCHESTER, OH | 10/19/2006
SANDOVAL, MARIA | WACO, TX | 10/19/2006
SCHMITTLE, KARL | YORK, PA | 10/19/2006
SCOTT, SHARON | BRIDGEWATER, MA | 10/19/2006
SERTICH, PAMELA | HELOTES, TX | 10/19/2006
SHAPIRO, GARY | SANTA MONICA, CA | 10/19/2006
SHENKMAN, BERNARD | ALLENTOWN, PA | 10/19/2006
SILVA, MARLENE | WILTON, CA | 10/19/2006
SIMOLARIS, PAMELA | LOWELL, MA | 10/19/2006
SLAVIN, CARL | ANNAPOLIS, MD | 10/19/2006
SNOW, MICHAEL | WEST CHESTER, PA | 10/19/2006
SOMERVILLE, MICHAEL | SALT LAKE CITY, UT | 10/19/2006
SPILKER, BOBBI | WESTON, OH | 10/19/2006
STANLEY, TERESA | CONROE, TX | 10/19/2006
STECKEL, ELIZABETH | HUDSON, OH | 10/19/2006
STONE, MARY | LAKEWOOD, NJ | 10/19/2006
SUMMERSON, TAMMY | FAIRHOPE, AL | 10/19/2006
TERRIEN, MARGARET | BURLINGTON, VT | 10/19/2006
THOMAS, MARC | ALBUQUERQUE, NM | 10/19/2006
THOMPSON, VIOLET | LAFAYETTE, IN | 10/19/2006
TICE, FREDRICK | SAN ANTONIO, TX | 10/19/2006
TIPPETS, RANDY | OGDEN, UT | 10/19/2006
TOBAH, JAMES | MESA, AZ | 10/19/2006
TURNER, CLARENCE | WORCESTER, MA | 10/19/2006
UPCHURCH, YALINDA | GARLAND, TX | 10/19/2006
VALADEZ, STEPHEN | SIGNAL MOUNTAIN, TN | 10/19/2006
VAN DYKE, ALBERT | MANTI, UT | 10/19/2006
VINCENT, ERNIE | CLAYTON, CA | 10/19/2006
WALCZAK, CHRISTOPHER | MONTPELIER, VT | 10/19/2006
WALKER, PAMELA | AUSTIN, TX | 10/19/2006
WALTERS, BRENDA | ABILENE, TX | 10/19/2006
WATERS, MARK | CEDAR CITY, UT | 10/19/2006
WEISBACH, DAVID | OCEANSIDE, CA | 10/19/2006
WEISS, JUDITH | APTOS, CA | 10/19/2006
WELLS, MICHELLE | WACO, TX | 10/19/2006
WENZEL, STEPHEN | FORT WORTH, TX | 10/19/2006
WESLEY, MARILYN | LITTLE ROCK, AR | 10/19/2006
WHELAN, JOHN | LINDENHURST, NY | 10/19/2006
WHETSEL, SHARON | ALVIN, TX | 10/19/2006
WHITE, KENT | CHATTANOOGA, TN | 10/19/2006
WHITE, LINDA | ENID, OK | 10/19/2006
WILLIAMS, MATTHEW | LAWTEY, FL | 10/19/2006
WILLIAMS, ROBERT | BALTIMORE, MD | 10/19/2006
WRIGHT, CYNTHIA | CHANTILLY, VA | 10/19/2006
ZEIM, LISHA | SALT LAKE CITY, UT | 10/19/2006
ZINGARO, ROBERT | EL PASO, TX | 10/19/2006
FEDERAL/STATE EXCLUSION/SUSPENSION
ASCONA AMBULETTE SERVICE, INC | BROOKLYN, NY | 10/19/2006
MARTINEZ, ROSA | YAKIMA, WA | 10/19/2006
FRAUD/KICKBACKS/PROHIBITED ACTS/SETTLEMENT AGREEMENT
FERTAL, BRUCE | CANAL FULTON, OH | 8/7/2006
OWNED/CONTROLLED BY EXCLUDED/CONVICTED INDIVIDUAL
ACTIVE PAIN CLINIC, PA | NEW PORT RICHEY, FL | 10/19/2006
BRANDON MOBILITY, INC | W YARMOUTH, MA | 10/19/2006
EMA EYEWEAR, INC | HOLLYWOOD, FL | 10/19/2006
HERNANDO ANESTHESIA ASSOCIATES PA | WEEKI WACHEE, FL | 10/19/2006
HIGHLAND HILLS MANAGEMENT CORP | JESUP, GA | 10/19/2006
NATIONALITIES UNITED, INCORPORATED | LINCOLN, NE | 10/19/2006
PRO-VENTION CHIROPRACTIC PC | BETTENDORF, IA | 10/19/2006
ST LUCIE PAIN CENTER, INC | W PALM BEACH, FL | 10/19/2006
ZAKY-SHERREL MEDICAL CORPORATION | HUNTINGTON PARK, CA | 10/19/2006
DEFAULT ON HEAL LOAN
HERRING, CHARLES | FREMONT, CA | 10/19/2006
LANGSTON, MARTIN | BATON ROUGE, LA | 10/19/2006
PETRELL, ALICIA | PLYMOUTH, MA | 10/19/2006
PHIPPS, DONNA | LONGVIEW, TX | 10/19/2006
SATIR, SERVET | ORANGE, TX | 10/19/2006
CIVIL MONETARY PENAL LAW
HORRAS, THOMAS | KNOXVILLE, IA | 4/25/2006
RICHARDS, CHRISTINE | KNOXVILLE, IA | 4/25/2006

Dated: October 4, 2006.
Maureen R. Byer,
Director, Exclusions Staff, Office of Inspector General.

[FR Doc. E6-17330 Filed 10-17-06; 8:45 am]

BILLING CODE 4152-01-P